DEPARTMENT OF THE INTERIOR

National Park Service

[NPS-WASO-NAGPRA-NPS0032675; PPWOCRADN0-PCU00RP14.R50000]

Notice of Inventory Completion: American Museum of Natural History, New York, NY; Correction

AGENCY: National Park Service, Interior.

ACTION: Notice; correction.

SUMMARY: The American Museum of Natural History (AMNH) has corrected an inventory of human remains and associated funerary objects, published in a Notice of Inventory Completion in the Federal Register on January 16, 2014. This notice corrects the number of associated funerary objects. Lineal descendants or representatives of any Indian Tribe or Native Hawaiian organization not identified in this notice that wish to request transfer of control of these human remains and associated funerary objects should submit a written request to the American Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the American Museum of Natural History at the address in this notice by October 27, 2021.

FOR FURTHER INFORMATION CONTACT: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the correction of an inventory of human remains and associated funerary objects under the control of the American Museum of Natural History, New York, NY. The human remains and associated funerary objects were removed from the Sebonac site in Shinnecock Hills, Suffolk County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (79 FR 2876-2877, January 16, 2014). The Museum recently received archival documentation housed in a different institution that pertains to the AMNH's excavations at Shinnecock Hills. This new information has led Museum staff to identify additional associated funerary objects. Transfer of control of the items in this correction notice has not occurred.

Correction

In the Federal Register (79 FR 2877, January 16, 2014), column 1, paragraph 2, sentence 3 is corrected by substituting the following sentence:

The 145 associated funerary objects are 109 ceramic sherds; two fragmentary turtle shell cups; one fragmentary turtle shell; one lot of burnt earth; one gun flint; one draw shave scraper; one lot of oyster shells; one grinding stone; one fragmentary steatite dish; one fragment of a soapstone object; one net sinker; one broken bone awl; two clay concretions (one of which is ornamented with lines); one clay disk; two lots of marine shells; one animal jaw; one serrated quartz scrapper or saw; one lot of animal bones (including deer antler, deer, bird, fish and turtle bone); one lot of animal bone (including deer antler, a tooth and split deer bones); one lot of animal bone including a sturgeon scale and piece of turtle shell; one lot of charred fish bones; one lot of marine shells and animal tooth; seven quartz tools; one lot of lithic debitage and clay dog: And four lots of lithic debitage.

In the Federal Register (79 FR 2877, January 16, 2014), column 2, paragraph 1, bullet point 2 is corrected by substituting the following sentence:

Pursuant to 25 U.S.C. 3001(3)(A), the 145 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Nell Murphy, American Museum of Natural History, Central Park West at 79th Street, New York, NY 10024, telephone (212) 769-5837, email nmurphy@amnh.org, by October 27, 2021. After that date, if no additional requestors have come forward, transfer of control of the human remains and associated funerary objects to the Shinnecock Indian Nation may proceed.

The American Museum of Natural History is responsible for notifying the Cayuga Nation; Delaware Tribe of Indians; Mashantucket Pequot Indian Tribe [previously listed as Mashantucket Pequot Tribe of Connecticut]; Mohegan Tribe of Indians of Connecticut [previously listed as Mohegan Indian Tribe of Connecticut]; Narragansett Indian Tribe; Oneida Indian Nation [previously listed as Oneida Nation of New York]; Oneida Nation [previously listed as Oneida Tribe of Indians of Wisconsin]; Onondaga Nation; Saint Regis Mohawk Tribe [previously listed as St. Regis Band of Mohawk Indians of New York]; Seneca Nation of Indians [previously listed as Seneca Nation of New York]; Seneca-Cayuga Nation [previously listed as Seneca-Cayuga Tribe of Oklahoma]; Shinnecock Indian Nation; Stockbridge Munsee Community, Wisconsin; Tuscarora Nation; and the Wampanoag Tribe of Gay Head (Aquinnah) that this notice has been published.

Dated: September 21, 2021.
Melanie O'Brien,
Manager, National NAGPRA Program.

[FR Doc. 2021-20915 Filed 9-24-21; 8:45 am]

BILLING CODE 4312-52-P